DEPARTMENT OF HEALTH AND HUMAN SERVICES

Centers for Disease Control and Prevention

[30Day-22-1105]

Agency Forms Undergoing Paperwork Reduction Act Review

In accordance with the Paperwork Reduction Act of 1995, the Centers for Disease Control and Prevention (CDC) has submitted the information collection request titled “One Health Harmful Algal Bloom System (OHHABS)” to the Office of Management and Budget (OMB) for review and approval. CDC previously published a “Proposed Data Collection Submitted for Public Comment and Recommendations” notice on November 16, 2021 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

One Health Harmful Algal Bloom System (OHHABS) (OMB Control No. 0920-1105, Exp. 3/31/2022)—Revision—National Center for Emerging and Zoonotic Infectious Diseases (NCEZID), Centers for Disease Control and Prevention (CDC).

Background and Brief Description

The Centers for Disease Control and Prevention (CDC), National Center for Emerging and Zoonotic Infectious Diseases (NCEZID) requests a three-year Revision for the One Health Harmful Algal Bloom System (OHHABS) for harmful algal bloom (HAB) and HAB-associated illness surveillance.

HABs are the rapid growth of algae or cyanobacteria (also called blue-green algae) that can cause harm to people, animals, or the local ecology. Toxins from HABs include some of the most potent natural chemicals; these toxins can contaminate surface water used for recreation and drinking, as well as food sources. HABs pose a threat to both humans and animals. Human and animal illnesses from exposures to HABs in fresh and marine waters have been documented throughout the United States. Animal illness may be an indicator of bloom toxicity; thus, it is necessary to provide a One Health approach for reporting HAB-associated illnesses and events.

HABs are an emerging public health concern. For 2016—2019, 22 states adopted use of the OHHABS and entered 669 reports, including information about 452 human illnesses and at least 481 animal illnesses associated with HAB events. Of the 669 HAB event reports, 84% were associated with freshwater, resulting in 428 (95%) of human illnesses. In these freshwater settings, the most common signs and symptoms reported include generalized (e.g., headache, fever, fatigue), gastrointestinal, and dermatologic.

Known adverse health effects from HABs in marine waters include respiratory illness and seafood poisoning. In 2007, 15 persons were affected with respiratory illness from exposures to brevetoxins, an algal toxin, during a Florida red tide. From 2007-2011, HAB-associated foodborne exposures were identified for 273 case reports of human illness through a separate five-year data collection effort with a subset of states. Of these reports, 248 reported ciguatera fish poisoning (CFP) or poisoning by other toxins in seafood, including saxitoxin and brevetoxin. A review of national outbreak data reported to CDC for the time period 1998-2015, identified outbreaks CFP as the second most common cause of fish-associated foodborne disease outbreaks in the United States, among those outbreaks with a confirmed etiology. For this time period, 227 CFP outbreaks resulted in 894 illnesses and 96 hospitalizations. For 2016-2018, an additional 47 outbreak investigations implicated CFP, resulting in 147 illnesses and 12 hospitalizations.

Domestic animal, livestock, and wildlife HAB-associated illnesses have also been documented in the United States. Between 2016 and 2019, 79 cases of domestic pet illness were reported to OHHABS, with 39% (n=31) resulting in death. During the same time period, there were at least 53 livestock illnesses and 349 wildlife illnesses reported. The majority of livestock (96%) and wildlife (58%) cases resulted in death.

Factors that influence the occurrence of HABs include water temperature and nutrient levels. Warm waters with abundant phosphorus and nitrogen content (e.g., from urban or agricultural run-off) are more likely to form HABs. These conditions promote the growth of phytoplankton or algae that can produce toxins or otherwise cause illness in animals, people, and negatively impact the local ecology (e.g., reduced oxygen and light available for aquatic organisms) or economy (e.g., beach closures, shellfish bed closures). There is evidence that the frequency and severity of HABs may be affected by climate change, but that the impacts might vary due to the causal species, bloom location, or other factors.

In response to HAB-related public health events in 2018, Congress appropriated funds to CDC to enhance HAB exposure activities, including surveillance, mitigation, and event response efforts. In years since, Congress has directed CDC to continue efforts to respond to HAB events, including OHHABS as a tool for national surveillance. OHHABS is a centralized data source for public health surveillance of HAB events and HAB-associated illnesses. It uses a One Health approach that takes into consideration information from the environment, animal cases, and human cases. Outbreaks of HAB-associated human illnesses may already be reported to CDC by state and territorial public health agencies within the electronic National Outbreak Reporting System (NORS) (OMB Control No. 0920-0004). OHHABS is the national database used for public health surveillance of HAB events and single cases of HAB-associated human or animal illness. A standardized data-collection system for HAB events and HAB-associated illnesses continues to be necessary to quantify and characterize HAB-associated illnesses, refine HAB event and case definitions, and inform One Health prevention efforts.

OHHABS was approved for data collection in 2016. The system was launched in June 2016 along with a CDC HAB-associated illnesses website to provide more information for the general public about potential illnesses and to share resources for HAB awareness and OHHABS with public health partners. Since 2016, CDC has provided technical assistance and training to states and territories interested in OHHABs and worked with contractors to implement new features for OHHABS. In 2020, CDC and partners published the first summary of OHHABS data (years 2016—2018) in the Morbidity and Mortality Weekly Report (MMWR). In 2021, CDC released a 2019 OHHABS data summary online (https://www.cdc.gov/habs/data/index.html) and upgraded the electronic platform to improve the user interface and system functionality. During this time CDC has also continued to coordinate a series of conference calls where state and federal partners may discuss their surveillance activities, needs, and priorities. CDC has also had the opportunity to communicate with additional HAB surveillance stakeholders, such as members of the veterinary community, state and federal environmental health staff, and others to provide information about OHHABS reporting through webinars, posters, and other presentations.

This activity is authorized by Section 301 of the Public Health Service Act (42 U.S.C. 241). CDC requests OMB approval for an estimated 76 annual burden hours. There is no cost to respondents other than their time to participate.

Estimated Annualized Burden Hours
Type of respondents | Form name | Number of respondents | Number of responses per respondent | Average burden per response (in hours)
State/Territory | One Health Harmful Algal Bloom System (OHHABS) (electronic, year-round) | 57 | 4 | 20/60

Jeffrey M. Zirger,
Lead, Information Collection Review Office, Office of Scientific Integrity, Office of Science, Centers for Disease Control and Prevention.

[FR Doc. 2022-05299 Filed 3-11-22; 8:45 am]

BILLING CODE 4163-18-P